DEPARTMENT OF COMMERCE

National Oceanic and Atmospheric Administration

[RTID 0648-XD885]

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be May 14-15, 2024 from 12:30 p.m. to 5:30 p.m. Eastern Time.

ADDRESSES: Meeting is by webinar and teleconference. Conference call and webinar access information are available at: https://www.fisheries.noaa.gov/topic/partners/marine-fisheries-advisory-committee.

FOR FURTHER INFORMATION CONTACT: Katie Zanowicz, MAFAC Assistant; 301-427-8038; email: Katie.zanowicz@noaa.gov.

SUPPLEMENTARY INFORMATION: As required by section 10(a)(2) of the Federal Advisory Committee Act, 5 U.S.C. app. 2, notice is hereby given of a meeting of MAFAC. The MAFAC was established by the Secretary of Commerce (Secretary) and, since 1971, advises the Secretary on all living marine resource matters that are the responsibility of the Department of Commerce. The charter and summaries of prior meetings are located online at https://www.fisheries.noaa.gov/topic/partners/marine-fisheries-advisory-committee.

Matters To Be Considered

The meeting time and agenda are subject to change. The meeting is convened to hear presentations and discuss policies and guidance on the following topics: climate science and management for climate-ready fisheries, trade and seafood promotion activities, recreational fisheries, budget outlook, and other program updates. MAFAC will also discuss various administrative and organizational matters.

Time and Date

The meeting will be May 14-15, 2024 from 12:30 p.m. to 5:30 p.m. Eastern Time. Information to join the webinar will be posted at https://www.fisheries.noaa.gov/national/partners/marine-fisheries-advisory-committee-meeting-materials-and-summaries by April 30, 2024.

Dated: April 16, 2024.
Heidi Lovett,
Acting Designated Federal Officer, Marine Fisheries Advisory Committee, National Marine Fisheries Service.

[FR Doc. 2024-08755 Filed 4-23-24; 8:45 am]

BILLING CODE 3510-22-P